DEPARTMENT OF ENERGY

Federal Energy Regulatory Commission

[Docket No. CP20-513-000]

WBI Energy Transmission, Inc.; Notice of Request for Extension of Time

Take notice that on October 19, 2021, WBI Energy Transmission, Inc. (WBI) requested that the Federal Energy Regulatory Commission (Commission) grant an extension of time, until November 1, 2022, to complete the 2020 Baker Storage Well Abandonment Project (Project), as authorized after the 60-day deadline of WBI's prior notice issued by the Commission on September 3, 2020. By that process, WBI was initially required to abandon the facilities in one year, by November 2, 2021.

WBI states that on October 12, 2021, the Project area received a measurable amount of rain and snow delaying the removal of the remaining 17 drip lines over concerns of excessive rutting along the right-of-way and within the approved workspace areas. WBI is requesting an extension of time due to the uncertainty in the workplace conditions over the next few weeks, that may prevent WBI from completing abandonment activities ahead of the original deadline.

This notice establishes a 15-calendar day intervention and comment period deadline. Any person wishing to comment on WBI's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).¹

¹ Only motions to intervene from entities that were party to the underlying proceeding will be accepted. Algonquin Gas Transmission, LLC, 170 FERC ¶ 61,144, at P 39 (2020).

As a matter of practice, the Commission itself generally acts on requests for extensions of time to complete construction for Natural Gas Act facilities when such requests are contested before order issuance. For those extension requests that are contested,² the Commission will aim to issue an order acting on the request within 45 days.³ The Commission will address all arguments relating to whether the applicant has demonstrated there is good cause to grant the extension.⁴ The OEP Director, or his or her designee, will act on all of those extension requests that are uncontested.

² Contested proceedings are those where an intervenor disputes any material issue of the filing. 18 CFR 385.2201(c)(1) (2019).

³ Algonquin Gas Transmission, LLC, 170 FERC ¶ 61,144, at P 40 (2020).

⁴ Id. at P 40.

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the “eFile” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Comment Date: 5:00 p.m. Eastern Time on November 10, 2021.

Dated: October 26, 2021.
Kimberly D. Bose,
Secretary.

[FR Doc. 2021-23733 Filed 10-29-21; 8:45 am]

BILLING CODE 6717-01-P